DEPARTMENT OF EDUCATION

Common Instructions and Information for Applicants to Department of Education Discretionary Grant Programs

AGENCY: Office for Planning, Evaluation and Policy Development, Department of Education.

ACTION: Notice; revised common instructions.

SUMMARY: On December 23, 2024, the Department of Education (Department) published a set of common instructions for applicants seeking funds under a Department discretionary grant competition. In this notice, the Department is publishing a revised version of the common instructions that supersedes the version published on December 23, 2024.

FOR FURTHER INFORMATION CONTACT: Kelly Terpak, U.S. Department of Education, 400 Maryland Avenue SW, Room 4C212, Washington, DC 20202. Telephone: (202) 280-8472. Email: Kelly.Terpak@ed.gov.

If you are deaf, hard of hearing, or have a speech disability and wish to access telecommunications relay services, please dial 7-1-1.

SUPPLEMENTARY INFORMATION:

Background: This document is a centralized and up-to-date set of instructions for applying to the Department's discretionary grant programs. Notices inviting applications (NIAs) will reference this document instead of providing this series of instructions within each NIA. If in the rare circumstance exceptions to these instructions are necessary, they will be noted in an individual competition NIA.

Revised Common Instructions: The Department is making changes to the revised common instructions for applicants that were published in the Federal Register on December 23, 2024 (89 FR 104528), to update common instructions and include information previously found in Department NIAs, including Application and Submission Information, Application Review Information, and Award Administration Information. This effort is intended to help simplify and reduce the traditional length of Department NIAs by moving further common application elements into these instructions. In addition, the Department has added guidance on the usage of Artificial Intelligence (AI) when applying to grant competitions. The revised common instructions and information are below.

Common Set of Instructions and Information for Applicants: Application and Submission Information.

1. Where to Find the Application Package: You can obtain an application package from the Department's website or Grants.gov.

2. Content and Formatting Requirements: Requirements concerning the content and formatting of an application, together with the forms you must submit, are in the application package for the program located on Grants.gov.

We recommend that you use the following standards:

• A “page” is 8.5″ x 11″, on one side only, with 1″ margins at the top, bottom, and both sides.

• Double space (no more than three lines per vertical inch) all text in the application narrative, including titles, headings, footnotes, quotations, references, and captions.

• Meet or exceed standards for accessibility d (including alternative text for charts, figures, and graphs) in compliance with Section 508 of the Rehabilitation Act of 1973. For assistance with 508 compliance, please visit section508.gov/create.

• Use a font that is 12 point.

• Use one of the following fonts: Times New Roman, Courier, Courier New, or Arial.

3. Unique Entity Identifier, Taxpayer Identification Number, and System for Award Management: To do business with the Department, and to submit your application electronically using Grants.gov, you must—

a. Have a Unique Entity Identifier (UEI) and a Taxpayer Identification Number (TIN);

b. Be registered in the System for Award Management (SAM.gov), the Government's primary registrant database. Information about SAM is available at www.SAM.gov. To further assist you with registering in SAM.gov and getting a UEI or updating your existing SAM registration, see the Quick Start Guide for Grant Registrations at https://www.fsd.gov/sys_attachment.do?sys_id=f51d017e1bab7c105465eaccac4bcb9f%20 and the Entity Registration Video at https://sam.gov/content/entity-registration;

c. Provide your UEI number and TIN on your application; and

d. Maintain an active SAM registration with current information while your application is under review by the Department and, if you are awarded a grant, during the project period.

If you are a corporate entity, agency, institution, or organization, you can obtain a TIN from the Internal Revenue Service (IRS). If you are an individual, you can obtain a TIN from the IRS or the Social Security Administration. If you need a new TIN, please allow two to five weeks for your TIN to become active.

The SAM registration process usually takes approximately 7 to 10 business days, but may take longer, depending on the completeness and accuracy of the data you enter into the SAM.gov database. The Department recommends that you register early, at least 10 to 14 business days before the application deadline. If you are unable to submit an application on Grants.gov by the application deadline because you do not have an active SAM registration, you will not be considered for funding.

Note: Once your SAM.gov registration is active, it may be 24 to 48 hours before you can access the information in, and submit an application through, Grants.gov.

If you are currently registered with SAM.gov, you may not need to make any changes. However, please make certain that the TIN associated with your UEI is correct.

Note: You must update your SAM registration annually. This may take three or more business days.

e. Register as an applicant using your UEI number and be designated by your organization's E-Biz Point of Contact as an Authorized Organization Representative (AOR). Details on these steps are outlined at the following Grants.gov web page: https://grants.gov/register.

4. Submission Instructions:

a. Electronic Submission of Applications.

The Department is participating as a partner in the Government-wide Grants.gov site. Submit applications electronically using Grants.gov. Do not mail or email them unless explicitly allowed in a competition NIA.

You may access the electronic grant applications at www.grants.gov. You may search for the downloadable application package for the competition that you are interested in applying to by the Assistance Listing Number (ALN). Do not include the ALN's alpha suffix in your search (e.g., search for 84.184, not 84.184D).

A Grants.gov applicant must apply online using Workspace, a shared environment in Grants.gov where members of a grant team may simultaneously access and edit different web forms within an application. You begin by creating an individual Workspace for each application and establish, for that application, a collaborative application package that allows more than one person in your organization to work concurrently on an application. You will then complete the application forms in Workspace and submit the application when completed. For further instructions on how to apply using Grants.gov, refer to: https://grants.gov/applicants/grant-applications/how-to-apply-for-grants.

Please note the following:

• Assistance: Applicants needing assistance with Grants.gov may contact the Grants.gov Support Center either by calling 1-800-518-4726 or by sending an email to support@grants.gov. The Grants.gov Support Center is available 24 hours a day, seven days a week, except for Federal holidays. Applicants needing assistance from Department staff with their applications should contact the person listed in the FOR FURTHER INFORMATION CONTACT section in the competition NIA prior to the application deadline date during normal business hours, and no later than 5:00 p.m., Eastern Time, on the application deadline date.

Further information about applying for discretionary grants can also be found on the ED.gov website: https://www.ed.gov/grants-and-programs/apply-grant/getting-started-discretionary-grant-applications.

• Time to Submit an Application: The amount of time it can take to upload an application will vary depending on a variety of factors, including the size of the application and the speed of your internet connection. Therefore, the Department recommends that you leave yourself plenty of time to complete your submission.

• Application Deadline, Date- and Time-Stamps: Applications received by Grants.gov are date- and time-stamped upon submission. Your application must be fully uploaded and submitted, received, and date- and time-stamped by the Grants.gov system no later than 11:59:59 p.m., Eastern Time, on the application deadline date. Except as otherwise noted in this section, the Department will not accept your application if it is submitted, received, and date- and time-stamped by the Grants.gov system after 11:59:59 p.m., Eastern Time, on the application deadline date. The Department will not consider an application that does not comply with the deadline requirements. When the Department retrieves your application from Grants.gov, the Department will notify you if the Department is rejecting your application because it was late. Receipt of a date- and time-stamp from Grants.gov does not mean that your application meets program eligibility requirements described in the NIA.

• Artificial Intelligence: The Department recognizes the potential of artificial intelligence (AI) systems (including machine learning, generative artificial intelligence, and large language models) and generated content to support the mission of promoting student achievement and ensuring equal access. The use of AI in the development of grant application materials is allowable. Applicants submitting a grant application must certify on the standard application form to the “true, complete, and accurate” nature of all the contents of their grant application, regardless of whether it is generated by AI.

• Forms: When you submit your application electronically, all documents must be submitted electronically, including all information you typically provide on the following forms: the Application for Federal Assistance (SF 424), the Department of Education Supplemental Information for SF 424, Budget Information—Non-Construction Programs (ED 524), and all Department-specific assurances and certifications.

• File Type: When you submit your application electronically, you must upload any narrative sections and all other attachments to your application as files in Portable Document Format (PDF). The Department recommends applicants submit all documents as read-only flattened PDFs, meaning any fillable PDF files must be saved and submitted as non-fillable PDF files and not as interactive or fillable PDF files, to better ensure applications are processed in a more timely, accurate, and efficient manner. If you upload a file type other than PDF or if you submit a password-protected file, the Department will be unable to review that material. Please note that this will likely result in your application not being considered for funding. The Department will not convert material from other formats to PDF.

• Notification of Receipt: After you electronically submit your application, you will receive from Grants.gov an automatic notification of receipt that contains a Grants.gov tracking number. Grants.gov will also notify you automatically by email if your application met all of the Grants.gov validation requirements or if there were any errors. If you discover that your submitted application was incomplete or included errors, you will be given an opportunity to correct any errors and resubmit, but you must still meet the deadline date and time (11:59:59) for submission.

Once your application is successfully validated by Grants.gov, the Department will retrieve your application from Grants.gov and send you an email with a unique PR/Award number for your application.

If you are prevented from electronically submitting your application on the application deadline date because of technical problems within the Grants.gov system, the Department will grant you an extension until 11:59:59 p.m., Eastern Time, the following business day to enable you to transmit your application electronically, provided the Department can verify the technical issues that affected your ability to submit your application on time via your Grants.gov Support Desk Case Number.

Note: The extensions to which the Department refers in this section apply only to technical problems with the Grants.gov system. The Department will not grant you an extension if you failed to fully register in order to submit your application to Grants.gov (including with the required UEI number and TIN currently registered in SAM) before the application deadline date and time or if the technical problem you experienced is unrelated to the Grants.gov system.

Application Review Information

1. Submission of Proprietary Information: Given the types of projects that may be proposed in applications for funding, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4 of the Freedom of Information Act. In the appropriate Appendix section of your application, under “Other Attachments Form,” please list the page number or numbers on which we can find this information. For additional information please see 34 CFR 5.11(c).

2. Intergovernmental Review: Most Department competitions are subject to intergovernmental review under Executive Order 12373. If applicable, information about this process is in the program application package.

3. Past Performance: In reviewing applications in any discretionary grant competition, the Secretary may consider the past performance of the applicant in carrying out a previous award, such as the applicant's use of funds, achievement of project objectives, and compliance with grant conditions. The Secretary may also consider whether the applicant failed to submit a timely performance report or submitted a report of unacceptable quality.

4. Assurances: In addition, in making a competitive grant award, the Secretary requires various assurances, including those applicable to Federal civil rights laws that prohibit discrimination in programs or activities receiving Federal financial assistance from the Department.

5. Risk Assessment and Specific Conditions: Before awarding grants under this competition, the Department conducts a review of the risks posed by applicants. The Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

6. Integrity and Performance Review: If you are selected to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS)). You may review and comment on any information about yourself that a Federal agency previously entered and that is currently in the Responsibility/Qualification reports in SAM.

If the total value of your currently active grants, cooperative agreements, and procurement contracts from the Federal Government exceeds $10,000,000, the reporting requirements in 2 CFR part 200, Appendix XII, require you to report certain integrity information to SAM semiannually. Please review these requirements if this grant plus all the other Federal funds you receive exceed $10,000,000.

Award Administration Information

1. Award Notices: If your application is successful, we will notify your U.S. Representative and U.S. Senators and send you a Grant Award Notification (GAN), or we may send you an email containing a link to access an electronic version of your GAN. We also may notify you informally.

If your application is not evaluated or not selected for funding, we will notify you.

2. Administrative and National Policy Requirements: Administrative and national policy requirements are identified in the application package and referenced in the Applicable Regulations section of the competition's NIA. The regulations outlining the terms and conditions of an award in the Applicable Regulations section of the competition notice include these and other specific conditions in the GAN. The GAN also incorporates your approved application as part of your binding commitments under the grant.

3. Open Licensing Requirements: Unless an exception applies and is identified in the NIA, if you are awarded a grant by the Department, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant, you must ensure that you have in place the necessary processes and systems to comply with the reporting requirements should you receive funding under the competition. This does not apply if you have an exception.

(b) At the end of your project period, you must submit a final performance report, including financial information, as directed by the Secretary. If you receive a multiyear award, you must submit an annual performance report that provides the most current performance and financial expenditure information as directed by the Secretary. The Secretary may also require more frequent performance reports.

(c) The Secretary may provide a grantee with additional funding for data collection analysis and reporting. In this case the Secretary establishes a data collection period.

5. Continuations: When applicable, in making a continuation award, the Secretary considers, among other things: whether a grantee has made substantial progress in achieving the goals and objectives of the project; whether the grantee has expended funds in a manner that is consistent with its approved application and budget; if the Secretary has established performance measurement requirements, whether the grantee has made substantial progress in achieving the performance targets in the grantee's approved application; and whether the continuation of the project is in the best interest of the Federal Government.

In making a continuation award, the Secretary also considers whether the grantee is operating in compliance with the assurances and specific conditions in its approved application, including those applicable to Federal civil rights laws that prohibit discrimination in programs or activities receiving Federal financial assistance from the Department.

Accommodations; Accessible Format: Individuals with disabilities who need an accommodation or auxiliary aid in connection with the application process should contact the person listed in the FOR FURTHER INFORMATION CONTACT section in the competition NIA. If the Department provides an accommodation or auxiliary aid to an individual with a disability in connection with the application process, the individual's application remains subject to all other requirements and limitations in the competition NIA.

On request to the person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Murray Bessette.
Principal Deputy Assistant Secretary and Acting Assistant Secretary, Office of Planning, Evaluation and Policy Development.

[FR Doc. 2025-16571 Filed 8-28-25; 8:45 am]

BILLING CODE 4000-01-P